DEPARTMENT OF AGRICULTURE

Forest Service

Notice of Request for Nominations for the Colorado Recreation Resource Advisory Committee; Federal Lands Recreation Enhancement Act (Title VIII, Pub. L. 108-447)

AGENCY: Forest Service, USDA.

ACTION: Notice of request for nominations for the Colorado Recreation Resource Advisory Committee.

SUMMARY: Nominations are being sought for certain positions to serve on the Recreation Resource Advisory Committee (Recreation RAC) operating in the state of Colorado for the Forest Service and Bureau of Land Management (BLM). New members will be appointed by the Secretary of Agriculture (Secretary) and serve three-year terms. Members are being sought to represent each of the following interests: (1) Winter motorized recreation, (2) Summer motorized recreation, (3) Summer non-motorized recreation, (4) Non-motorized outfitter guides, (5) Local environmental groups, (6) State tourism official, and (7) Indian tribes.

The public is invited to submit nominations for membership on the Recreation RAC. Current members who have only served one term may also apply. Application packets for Recreation RACs can be obtained on the Web at http://www.fs.fed.us/passespermits/rrac-application.shtml or by e-mailing pdevore@fs.fed.us. Interested parties may also contact Pam DeVore, U.S. Forest Service, 740 Simms Street, Golden, CO 80401 or call 303-275-5043.

All nominations must consist of a completed application packet that includes background information and other information that addresses a nominee's qualifications.

DATES: All applications must be received by the appropriate office listed below on or before June 15, 2010. This timeframe may be extended if officials do not receive applications for needed positions.

ADDRESSES: Interested persons may submit nominations to the Colorado RRAC by U.S. Mail or Express Delivery to Pam DeVore, Rocky Mountain Regional Office, 740 Simms Street, Golden, CO 80401. Nominations may also be sent via e-mail to pdevore@fs.fed.us.

FOR FURTHER INFORMATION CONTACT: Anyone wanting further information regarding this request for nominations may contact the designated federal official: Steve Sherwood, Recreation RAC DFO, 740 Simms Street, Golden, CO 80401 or 303-275-5135.

SUPPLEMENTARY INFORMATION: Background: The Federal Lands Recreation Enhancement Act (REA), signed December 2004, requires that the Forest Service and the BLM provide Recreation RACs with an opportunity to make recommendations to the two agencies on certain types of proposed recreation fee changes. REA allows the agencies to use existing advisory councils, such as BLM Resource Advisory Councils (RACs), or to establish new committees as appropriate. The Forest Service and BLM elected to jointly use existing BLM RACs in the states of Arizona, Idaho, the Dakotas, Montana, Nevada, New Mexico, and Utah. In 2006, the Forest Service chartered new Recreation RACs for the states of California and Colorado, and for the Forest Service Pacific Northwest, Eastern and Southern Regions. The Forest Service is using an existing advisory board for the Black Hills National Forest in South Dakota. In addition, the Governors of three states—Alaska, Nebraska and Wyoming—requested that their State be exempt from the REA-R/RAC requirement, and the two Departments concurred with the exemptions. Members were appointed to the Colorado Recreation RAC in July 2007 for either two-year or three-year terms. The Recreation RACs provide recreation fee recommendations to both the Forest Service and the BLM. These committees make recreation fee program recommendations on implementing or eliminating standard amenity fees; expanded amenity fees; and noncommercial, individual special recreation permit fees; expanding or limiting the recreation fee program; and fee-level changes.

Recreation RAC Composition: Each Recreation RAC consists of 11 members appointed by the Secretary. REA provided flexibility to modify the specified membership of the RAC “as appropriate” to ensure a fair and balanced representation of recreation interests.

(1) Five persons who represent recreation users and that include, as appropriate, persons representing:

(a) Winter motorized recreation such as snowmobiling;

(b) Winter non-motorized recreation such as snowshoeing, cross-country and downhill skiing, and snowboarding;

(c) Summer motorized recreation such as motorcycling, boating, and offhighway vehicle driving;

(d) Summer non-motorized recreation such as backpacking, horseback riding, mountain biking, canoeing, and rafting; and

(e) Hunting and fishing.

(2) Three persons who represent interest groups that include, as appropriate, the following:

(a) Non-motorized outfitters and guides;

(b) Non-motorized outfitters and guides; and

(c) Local environmental groups.

(3) Three persons, as follows:

(a) State tourism official to represent the state;

(b) A person who represents affected Indian tribes; and

(c) A person who represents affected local government interests.

Nomination Information: Any individual or organization may nominate one or more qualified persons to represent the interests listed above to serve on the Recreation RAC. To be considered for membership, nominees must:

• Identify what interest group they would represent and how they are qualified to represent that group;

• State why they want to serve on the committee and what they can contribute;

• Show their past experience in working successfully as part of a collaborative group; and

• Complete Form AD-755, Advisory Committee or Research and Promotion Background Information.

Letters of recommendation are welcome, but not required. Individuals may also nominate themselves. Nominees do not need to live in a state within a particular Recreation RAC's area of jurisdiction nor live in a state in which Forest Service managed lands are located.

Application packets, including evaluation criteria and the AD-755 form, are available at http://www.fs.fed.us/passespermits/rrac-application.shtml or by contacting the Rocky Mountain Region as identified in this notice. Nominees must submit all documents to the appropriate regional contact. Additional information about recreation fees and REA is available at http://www.fs.fed.us/passespermits/about-rec-fees.shtml. The Forest Service will also work with Governors and county officials to identify potential nominees. The Forest Service and BLM will review the applications and prepare a list of qualified applicants from which the Secretary shall appoint both members and alternates. An alternate will become a participating member of the Recreation RACs only if the member for whom the alternate is appointed to replace leaves the committee permanently. Recreation RAC members serve without pay but are reimbursed for travel and per diem expenses for regularly scheduled committee meetings.

All Recreation RAC meetings are open to the public, and an open public forum is part of each meeting. Meeting dates and times will be determined by agency officials in consultation with the Recreation RAC members.

Dated: April 21, 2010.
Maribeth Gustafson,
Deputy Regional Forester, Operations.

[FR Doc. 2010-10194 Filed 4-30-10; 8:45 am]

BILLING CODE 3410-11-M